DEPARTMENT OF COMMERCE

International Trade Administration

[A-549-502]

Circular Welded Carbon Steel Pipes & Tubes from Thailand: Extension of Time Limit for the Preliminary Results of the Antidumping Duty Administrative Review

AGENCY: Import Administration, International Trade Administration, U.S. Department of Commerce.

EFFECTIVE DATE: November 23, 2005.

FOR FURTHER INFORMATION CONTACT: Jacqueline Arrowsmith or Myrna Lobo, Office 6, AD/CVD Operations, Import Administration, International Trade Administration, U.S. Department of Commerce, 14th Street and Constitution Avenue, NW., Washington DC 20230; telephone: (202) 482-5255 or (202) 482-2371, respectively.

SUPPLEMENTARY INFORMATION:

Background

On April 22, 2005, the Department of Commerce (“the Department”) published in the Federal Register the notice of initiation of the administrative review of the antidumping duty order on circular welded carbon steel pipes and tubes from Thailand, covering the period March 1, 2004, through February 28, 2005. See Initiation of Antidumping and Countervailing Duty Administrative Reviews, 70 FR 20862 (April 22, 2005).

Extension of Time Limits for Preliminary Results

Section 751(a)(3)(A) of the Tariff Act of 1930 (“the Act”) requires the Department to issue the preliminary results of an administrative review within 245 days after the last day of the anniversary month of an antidumping duty order for which a review is requested and issue the final results within 120 days after the date on which the preliminary results are published. However, if the Department finds it is not practicable to complete the review within the time period, section 751(a)(3)(A) of the Act allows the Department to extend these deadlines to a maximum of 365 days and 180 days, respectively.

Due to the need for further analysis of complex accounting issues relating to cost of production, the Department finds that it is not practicable to complete the preliminary results in this administrative review of circular welded carbon steel pipes and tubes from Thailand by December 1, 2005. Therefore, the Department is extending the time limit for completion of the preliminary results until no later than March 31, 2006, in accordance with section 751(a)(3)(A) of the Act. The deadline for the final results of the administrative review continue to be 120 days after the publication of the preliminary results.

We are issuing and publishing this notice in accordance with sections 751(a)(3)(A) and 777(i)(1) of the Act.

Dated: November 17, 2005.
Stephen J. Claeys,
Deputy Assistant Secretary for Import Administration.

[FR Doc. E5-6468 Filed 11-23-05; 8:45 am]

BILLING CODE 3510-DS-S